DEPARTMENT OF HEALTH AND HUMAN SERVICES

Centers for Disease Control and Prevention

Delegation of Authority

Notice is hereby given that I have delegated to the Chief Operating Officer, Centers for Disease Control and Prevention (CDC), without the authority to redelegate, the authority vested in the Secretary of HHS by section 212(1) of the Department of Defense and Labor, Health and Human Services, and Education Appropriations Act, 2019 and Continuing Appropriations Act, 2019 (FY 19 HHS Appropriations Act) Public Law No. 115-245, division B, title II, or substantially similar authorities vested in the Secretary in the future by Congress, in order to carry out international health activities to respond to the current Ebola outbreak.

The authority under section 212(1) is immediately revoked in the event that any subsequent fiscal year HHS appropriations act does not contain the provision currently in section 212(1) or substantially similar authority.

The Chief Operating Officer, CDC, shall consult with the Secretary of State and relevant Chief of Mission to ensure that this authority is exercised in a manner consistent with section 207 of the Foreign Service Act of 1980 and other applicable statutes administered by the Department of State.

This delegation became effective on September 26, 2019 and is valid until September 18, 2020.

Robert R. Redfield,
Director, Centers for Disease Control and Prevention.

[FR Doc. 2019-21580 Filed 10-3-19; 8:45 am]

BILLING CODE 4163-18-P